DEPARTMENT OF THE INTERIOR

National Park Service

[NPS-WASO-NRSS-SSB-19672; PPWONRADE2, PMP00EI05.YP0000 (166)]

Information Collection Request Sent to the Office of Management and Budget (OMB) for Approval; Programmatic Clearance for NPS-Sponsored Public Surveys

AGENCY: National Park Service, Interior.

ACTION: Notice; request for comments.

SUMMARY: We (National Park Service, NPS) have sent an Information Collection Request (ICR) to OMB for review and approval. We summarize the ICR below and describe the nature of the collection and the estimated burden and cost. The National Park Service (NPS) sponsors public surveys to provide park managers with information needed for park planning, management, operations and evaluation of performance related to protecting park resources and meeting the needs of the public. In consultation with the Office of Management and Budget (OMB) and the Department of the Interior (DOI), the NPS has developed a Programmatic Clearance Process for NPS-sponsored public surveys. It significantly streamlines the information collection review process. To comply with the Paperwork Reduction Act of 1995, and as part of our continuing efforts to reduce paperwork and respondent burden, we invite the general public and other Federal agencies to take this opportunity to comment on this ICR.

DATES: You must submit comments on or before November 30, 2015.

ADDRESSES: Send your comments and suggestions on this information collection to the Desk Officer for the Department of the Interior at OMB—OIRA at (202) 395-5806 (fax) or OIRA_Submission@omb.eop.gov (email) and identify your submission as 1024-0224. Please also send a copy of your comments to Phadrea Ponds, Information Collections Coordinator, National Park Service, 1201 Oakridge Drive, Fort Collins, CO 80525 (mail); or pponds@nps.gov (email). Please reference Information Collection 1024-0224—Programmatic Clearance Renewal in the subject line.

FOR FURTHER INFORMATION CONTACT: Bret_Meldrum@nps.gov (email); or 970-267-7295 (phone) and Phadrea Ponds, Information Collection Coordinator, National Park Service, 1201 Oakridge Drive, Fort Collins, CO 80525 (mail); or pponds@nps.gov (email). Please reference Information Collection 1024-0224 Programmatic Clearance Renewal in the subject line. You may also access this ICR at www.reginfo.gov.

SUPPLEMENTARY INFORMATION:

I. Abstract

The Programmatic Clearance for NPS-Sponsored Public Surveys applies to surveys designed to furnish usable information to NPS managers and planners concerning park visitors, visitor services, potential park visitors, and residents of communities near parks. This information is intended to provide NPS managers with data that can be used to improve the quality and utility of agency programs, services, and planning efforts. Questions asked under the programmatic review process must show a clear tie to NPS management and planning needs. The programmatic review may only be used for non-controversial surveys that are unlikely to attract or include topics of significant public interest in the programmatic review process.

To qualify for the NPS generic programmatic review process, all information collections must be directly tied to an area managed by the NPS or research that will benefit NPS management efforts. All collections must be reviewed by the NPS and approved by OMB before the survey can be initiated.

II. Data

OMB Control Number: 1024-0224.

Title: Programmatic Clearance for NPS-Sponsored Public Surveys.

Type of Request: Revision of a currently approved collection.

Description of Respondents: Individual households and general public.

Respondent's Obligation: Voluntary.

Frequency of Collection: Occasionally, one time.

Estimated Annual Number of Responses: 41,500.

| Annual responses
On-site surveys | 20,000
Mail-back surveys | 10,000
All non-response surveys | 6,500
Telephone surveys | 1,000
Focus Groups/In person interviews | 1,500
Other | 2,500
Total | 41,500

Estimated Completion Time per Response: 15 minutes per mail back survey; 3 minutes per non response survey, 30 minutes per telephone survey; 60 minutes per focus group/interview 60 minutes; Other 15 minutes.

Estimated Total Annual Burden Hours: 11,283 hours.

Estimated Annual Non-hour Burden Cost: There are no non-hour burden costs associated with this collection.

III. Comments

On May 29, 2015, a 60-day Federal Register notice (80 FR 30720) was published announcing this information collection. Public comments were solicited for 60 days ending July 28, 2015. We received one public comment in response to that notice. The commenter did not support the renewal of the collection and stated that “once every 5 years is often enough to take these surveys.” In response to this comment, NPS contends that this renewal is not a single annual survey; rather it facilitates a set of independent surveys administered at multiples sites for a variety of NPS management needs. This process simplifies and streamlines the information collection requests to OMB in a manner that allows the NPS to submit more requests per year than we would through the regular submission route. Surveys are reviewed and approved in an expeditious manner allowing data collection to occur more frequently and in a timely manner—more specifically during the visitation season of interest. In the 16 years of the programmatic approval on average, 40 new surveys have been approved each year in support of NPS management and planning. This is nearly five times as many as we would expect going through the regular submission route.

We again invite comments concerning this information collection request on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask us or OMB in your comment to withhold your personal identifying information from public review, we cannot guarantee that it will be done.

Dated: October 26, 2015.
Madonna L. Baucum,
Information Collection Clearance Officer, National Park Service.

[FR Doc. 2015-27714 Filed 10-29-15; 8:45 am]

BILLING CODE 4310-EH-P